DEPARTMENT OF THE TREASURY

Office of Foreign Assets Control

Additional Designations, Foreign Narcotics Kingpin Designation Act

AGENCY: Office of Foreign Assets Control, Treasury.

ACTION: Notice.

SUMMARY: The U.S. Department of the Treasury 's Office of Foreign Assets Control (“OFAC”) is publishing the names of 2 individuals and 16 entities whose property and interests in property have been blocked pursuant to the Foreign Narcotics Kingpin Designation Act (“Kingpin Act”) (21 U.S.C. 1901-1908, 8 U.S.C. 1182).

DATES: The designation by the Director of OFAC of the two individuals and 16 entities identified in this notice pursuant to section 805(b) of the Kingpin Act is effective on April 12, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On April 12, 2012, the Director of OFAC designated the following two individuals and 16 entities whose property and interests in property are blocked pursuant to section 805(b) of the Kingpin Act.

Individuals

FIGUEROA GOMEZ, Hassein Eduardo (a.k.a. FERNANDEZ GOMEZ, Ernesto; a.k.a. FIGUERO GOMEZ, Hassein Eduardo; a.k.a. FIGUEROA, Edward), c/o DESARROLLO ARQUITECTONICO FORTIA, S.A. DE C.V.; c/o DESARROLLOS INMOBILIARIOS CITADEL, S.A. DE C.V.; c/o DESARROLLOS TURISTICOS FORTIA, S.A. DE C.V.; c/o EL PALOMAR CAR WASH, S.A. DE C.V.; c/o FORTIA BAJA SUR, S.A. DE C.V.; c/o GEOFARMA S.A. DE C.V.; c/o GRUPO COMERCIAL SAN BLAS, S.A. DE C.V.; c/o GRUPO F Y F MEDICAL INTERNACIONAL DE EQUIPOS; c/o PROMOCIONES CITADEL, S.A. DE C.V.; c/o PUNTO FARMACEUTICO S.A. DE C.V.; c/o SCUADRA FORTIA, S.A. DE C.V.; c/o UNION ABARROTERO DE JALISCO S.C. DE R.L. DE C.V.; Donato Guerra 227, Colonia Centro, Guadalajara, Jalisco, Mexico; San Aristeo 2323, Colonia Popular, Guadalajara, Jalisco, Mexico; Las Cortes 2935, Barajas Villasenor, Guadalajara, Jalisco, Mexico; Tlajomulco de Zuniga, Paseo de los Bosquez 115, El Palomar, Jalisco, Mexico; Benito Juarez, Valentin Gomez Farias 120A, Puerto Vallarta, Jalisco, Mexico; Puerta de Hierro 5594, Colonia Puerta de Hierro, Zapopan, Jalisco, Mexico; Acueducto 2200, Casa 2, Zapopan, Jalisco, Mexico; Avenida Pinos 330-2, Zapopan, Jalisco, Mexico; Marina Heights Tower Penthouse 4902, Dubai Marina, Dubai, United Arab Emirates; DOB 9 May 1973; alt. DOB 10 May 1973; POB Guadalajara, Jalisco, Mexico; Passport 01140311083 (Mexico); alt. Passport 6140103492 (Mexico); alt. Passport 96340014324 (Mexico) (individual) [SDNTK]

FIGUEROA VASQUEZ, Ezio Benjamin, c/o DISPOSITIVOS INDUSTRIALES DINAMICOS, S.A. DE C.V.; c/o DISTRIBUIDORA LIFE, S.A.; c/o DISTRIBUIDORA MEDICA HOSPITALARIA, S.A. DE C.V.; c/o EL PALOMAR CAR WASH, S.A. DE C.V.; c/o GEOFARMA S.A. DE C.V.; c/o GRUPO COMERCIAL SAN BLAS, S.A. DE C.V.; c/o GRUPO F Y F MEDICAL INTERNACIONAL DE EQUIPOS; c/o PUNTO FARMACEUTICO S.A. DE C.V.; c/o SCUADRA FORTIA, S.A. DE C.V.; c/o TECNOLOGIA OPTIMA CORPORATIVA S. DE R.L. DE C.V.; Paseo de los Heroes 108-104, Tijuana, Baja California, Mexico; Ave Tamaulipas 103 9, Mexico City, Distrito Federal, Mexico; Jojutla 65, Mexico City, Distrito Federal, Mexico; Victoria 86 Interior 106, Mexico City, Distrito Federal, Mexico; Calle Arbol 4508, Col Chapalita, Guadalajara, Jalisco, Mexico; 6094 Fraccionamiento Puerta, Boulevard Puerta de Hierro, Guadalajara, Jalisco, Mexico; Avenida Vallarta 6503, Ciudad Granja, Guadalajara, Jalisco, Mexico; Donato Guerra 227, Colonia Centro, Guadalajara, Jalisco, Mexico; San Aristeo 2323, Colonia Popular, Guadalajara, Jalisco, Mexico; Las Cortes 2935, Barajas Villasenor, Guadalajara, Jalisco, Mexico; Calle Colonias 269, Guadalajara, Jalisco, Mexico; Ave Lopez de Legaspi 2439, Colonia Lopez, Guadalajara, Jalisco, Mexico; Calle Abedules 507-5, Guadalajara, Jalisco, Mexico; Fraccionamiento El Palomar, Paseo el Palomar 132, Zapopan, Jalisco, Mexico; 2200 Acueducto, Casa 2, Zapopan, Jalisco, Mexico; 2a Secc, Paseo Loma Ancha Colonias de San Javier, Zapopan, Jalisco, Mexico; Avenida Pinos 330-2, Zapopan, Jalisco, Mexico; Colima No 319-B, Col. Roma, Zapopan, Jalisco, Mexico; Blvd. Puerta de Hierro No 6094, Zapopan, Jalisco, Mexico; Paseo de las Lomas No 43, Lomas de Colli, Zapopan, Jalisco, Mexico; Colinas de San Javier, Paseo Loma Ancha 3547, Zapopan, Jalisco, Mexico; DOB 20 Jun 1952; POB Mexico; Passport GO1814955 (Mexico); alt. Passport 05140035482 (Mexico); alt. Passport 94330015931 (Mexico); alt. Passport 07140276330 (Mexico); VisaNumberID GDL000506209 (Mexico) (individual) [SDNTK]

Entities

DESARROLLO ARQUITECTONICO FORTIA, S.A. DE C.V., Vereda De La Alondra No 8, Col Puerta De Hierro, Zapopan, Jalisco 45116, Mexico; Vereda De La Alondra No 8, Col Puerta De Hierro, Tlajomulco de Zuniga, Jalisco, Mexico; Avenida Miguel Hidalgo Manzana 47, Lote 11, Local—B, Colonia Reg. 92, Quintana Roo, Benito Juarez 77516, Mexico; Avenida Vallarta No. 6503, Piso 15, Col. C.D. Granja, Zapopan, Jalsico 45010, Mexico; Calzada de los Fresnos, No 70-A, Col. C.D. Granja, Zapopan, Jalisco 45010, Mexico; Folio Mercantil No. 17103 (Mexico); R.F.C. DAF0301276R6 (Mexico) [SDNTK]

DESARROLLOS INMOBILIARIOS CITADEL, S.A. DE C.V., Calzada de los Fresnos, No. 70 A, Desp. 101, Col. Ciudad Granja, Zapopan, Jalisco 45010, Mexico; Folio Mercantil No. 40246 (Mexico); R.F.C. DIC071012771 (Mexico) [SDNTK]

DESARROLLOS TURISTICOS FORTIA, S.A. DE C.V., Calzada de los Fresnos, No 70-A-103, Col. Ciudad Granja, Zapopan, Jalisco 45010, Mexico; Johanes Brahms No. 209, Int. 10, Col. Residencial La Estancia, Zapopan, Jalisco 45030, Mexico; Folio Mercantil No. 39853 (Mexico); R.F.C. DTF071012189 (Mexico) [SDNTK]

DISPOSITIVOS INDUSTRIALES DINAMICOS, S.A. DE C.V. (a.k.a. DISDA), Gaseoducto No. 7, Parque Industrial Puebla 2000, Puebla, Puebla 72226, Mexico; RFC DID100927249 (Mexico) [SDNTK]

DISTRIBUIDORA LIFE, S.A., Colon, Panama; RUC # 1205391-1-583093 (Panama) [SDNTK]

DISTRIBUIDORA MEDICA HOSPITALARIA, S.A. DE C.V., Colima No. 323 Int. 9, Col. Roma Norte, Cuauhtemoc, Mexico City, Distrito Federal 06700, Mexico; Tenozique Manzana 189 Lote 28, Col. Pedregal de San Nicolas 1a, Tlalpan, Mexico City, Distrito Federal 14100, Mexico; Folio Mercantil No. 175066 (Mexico); R.F.C. DMH930419ETA (Mexico) [SDNTK]

EL PALOMAR CAR WASH, S.A. DE C.V., Plaza El Palomar, Zona M Unico El P. Panor, Col. El Palomar, Tlajomulco, Jalisco 45645, Mexico; Paseo De Las Lomas 6272, Col. Lomas De Colli, Zapopan, Jalsico 45037, Mexico; Folio Mercantil No. 10374 (Mexico); R.F.C. PCW010604T1 (Mexico) [SDNTK]

FORTIA BAJA SUR, S.A. DE C.V., Calzada Fresnos No 70-A, Int. 102, Col. Ciudad Granja, Zapopan, Jalisco 45010, Mexico; Comerciantes No. 5395, Int. 11, Col. Jardines de Guadalupe, Zapopan, Jalisco 45030, Mexico; Folio Mercantil No. 39854 (Mexico); R.F.C. FBS0710126M0 (Mexico) [SDNTK]

GEOFARMA S.A. DE C.V., Calle Nueva York No. 304, Col. Napoles, Benito Juarez, Mexico City, Distrito Federal 03810, Mexico; Wisconsin No. 68, Col. Napoles, Benito Juarez, Mexico City, Distrito Federal 03810, Mexico; Colonias No. 269, Guadalajara, Jalisco 44100, Mexico; Uno No. 110, Col. Revoluciones, Boca Del Rio, Veracruz 94296, Mexico; Folio Mercantil No. 265072 (Mexico); R.F.C. GEO000810UD5 (Mexico) [SDNTK]

GRUPO COMERCIAL SAN BLAS, S.A. DE C.V., Avenida Vallarta Edif. Concentro, No. 6503, Piso 16, Ciudad Granja, Zapopan, Jalisco 45010, Mexico; Homero No. 418, Sexto Piso, Col. Polanco, Del Miguel Hidalgo, Mexico City, Distrito Federal 11570, Mexico; Colonias 269, Guadalajara, Jalisco 44160, Mexico; Benjamin Hill No. 178, Colonia Condesa, Cuauhtemoc, Mexico City, Distrito Federal 06140, Mexico; Vicente Guerrero No. 1261, Colonia Molino de Parra, Municipio Morelia, Michoacan 58010, Mexico; Avenida Vallarta #6503, Torre Corey, Piso 16, Col. Ciudad Granja, Zapopan, Jalisco 45010, Mexico; Folio Mercantil No. 251184 (Mexico); R.F.C. GCS9903264U1 (Mexico) [SDNTK]

GRUPO F Y F MEDICAL INTERNACIONAL DE EQUIPOS, Mexico City, Distrito Federal, Mexico; Folio Mercantil No. 290199 (Mexico) [SDNTK]

PROMOCIONES CITADEL, S.A. DE C.V., Calzada del Fresnos 70-A, Desp. 104, Col. Granja, Zapopan, Jalisco 45010, Mexico; Avenida Miguel Hidalgo Manzana 47, Lote 11, Local—A, Colonia Reg. 92, Benito Juarez, Quintana Roo 77516, Mexico; R.F.C. PCI071012KB2 (Mexico) [SDNTK]

PUNTO FARMACEUTICO S.A. DE C.V., Mexico City, Distrito Federal, Mexico; Folio Mercantil No. 258473 (Mexico) [SDNTK]

SCUADRA FORTIA, S.A. DE C.V., Paseo De Las Lomas No. 90, El Colli Ejidal, Zapopan, Jalisco 45070, Mexico; Folio Mercantil No. 13537 (Mexico); R.F.C. SFO011205UJ8 (Mexico) [SDNTK]

TECNOLOGIA OPTIMA CORPORATIVA S. DE R.L. DE C.V., Vereda de la Codorniz, No. 100, Col. Coto Cataluna, Puerta de Hierro, Zapopan, Jalisco 45110, Mexico; Folio Mercantil No. 44444 (Mexico) [SDNTK]

UNION ABARROTERO DE JALISCO S.C. DE R.L. DE C.V., Avenida Lazaro Cardenas No. 3446-14, Guadalajara, Jalisco, Mexico; Folio Mercantil No. 17656 (Mexico) [SDNTK]

Dated: April 12, 2012.
Adam J. Szubin,
Director, Office of Foreign Assets Control.

[FR Doc. 2012-9494 Filed 4-19-12; 8:45 am]

BILLING CODE 4810-AL-P